DEPARTMENT OF THE INTERIOR

National Park Service

[N6759; NPS-WASO-NAGPRA-NPS0041522; PPWOCRADN0-PCU00RP14.R50000]

Notice of Intended Repatriation: Museum of Science, Boston, Boston, MA

AGENCY: National Park Service, Interior.

ACTION: Notice.

SUMMARY: In accordance with the Native American Graves Protection and Repatriation Act (NAGPRA), the Museum of Science, Boston, intends to repatriate certain cultural items that meet the definition of sacred objects and that have a cultural affiliation with the Indian Tribes or Native Hawaiian organizations in this notice.

DATES: Repatriation of the cultural items in this notice may occur on or after January 20, 2026.

ADDRESSES: Send additional, written requests for repatriation of the cultural items in this notice to Rebecca Melius, Museum of Science, Boston, 1 Science Park, Boston, MA 02114, email rmelius@mos.org.

SUPPLEMENTARY INFORMATION: This notice is published as part of the National Park Service's administrative responsibilities under NAGPRA. The determinations in this notice are the sole responsibility of the Museum of Science, Boston, and additional information on the determinations in this notice, including the results of consultation, can be found in the summary or related records. The National Park Service is not responsible for the determinations in this notice.

Abstract of Information Available

A total of six cultural items have been requested for repatriation. The six sacred objects are hand-held weapons made of wood. These objects were given to the Museum by an individual donor in the 1950s as part of an unexpected bequest, and provenance was not provided by the late donor. In the early 20th century, the donor traveled to Hawai'i, Samoa, and other Pacific Islands during his military service and for personal reasons. The six objects described in this notice are reasonably believed to have been acquired by the donor during those tours. The six sacred objects have not been tested for the presence of hazardous materials; they have not been treated with hazardous materials in the past twenty years.

Determinations

The Museum of Science, Boston, has determined that:

• The six sacred objects described in this notice are specific ceremonial objects needed by a traditional Native American religious leader for present-day adherents to practice traditional Native American religion, according to the Native American traditional knowledge of a lineal descendant, Indian Tribe, or Native Hawaiian organization.

• There is a connection between the cultural items described in this notice and the Hui Iwi Kuamo'o.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Museum of Science, Boston, must determine the most appropriate requestor prior to repatriation. Requests for joint repatriation of the cultural items are considered a single request and not competing requests. The Museum of Science, Boston, is responsible for sending a copy of this notice to the Indian Tribes and Native Hawaiian organizations identified in this notice and to any other consulting parties.

Authority: Native American Graves Protection and Repatriation Act, 25 U.S.C. 3004 and the implementing regulations, 43 CFR 10.9.

Dated: December 3, 2025.
Melanie O'Brien,
Manager, National NAGPRA Program.

[FR Doc. 2025-23201 Filed 12-17-25; 8:45 am]

BILLING CODE 4312-52-P